DEPARTMENT OF AGRICULTURE

Food Safety and Inspection Service

[Docket No. FSIS-2010-0020]

Notice of Request for a Revision of a Currently Approved Information Collection (Listeria Monocytogenes Control for Ready-to-Eat Products)

AGENCY: Food Safety and Inspection Service, USDA.

ACTION: Notice and request for comments.

SUMMARY: In accordance with the Paperwork Reduction Act of 1995 and the Office of Management and Budget (OMB) regulations, this notice announces the Food Safety and Inspection Service's (FSIS) intention to request a revision of a currently approved information collection regarding Listeria monocytogenes (L. monocytogenes) for ready-to-eat (RTE) meat and poultry products because the OMB approval will expire on November 30, 2010, and to reflect its most recent plant data, which supports an estimate of fewer total burden hours.

DATES: Comments on this notice must be received on or before October 5, 2010.

ADDRESSES: FSIS invites interested persons to submit comments on this notice. Comments may be submitted by either of the following methods:

• Federal eRulemaking Portal: This Web site provides the ability to type short comments directly into the comment field on this Web page or attach a file for lengthier comments. Go to http://www.regulations.gov. Follow the on-line instructions at that site for submitting comments.

• Mail, including floppy disks or CD-ROMs, and hand-or courier-delivered items: Send to Docket Clerk, U.S. Department of Agriculture, Food Safety and Inspection Service, Room 2-2175 George Washington Carver Center, 5601 Sunnyside Avenue, Beltsville, MD 20705.

Instructions: All items submitted by mail or electronic mail must include the Agency name and docket number FSIS-2010-0020. Comments received in response to this docket will be made available for public inspection and posted without change, including any personal information, to http://www.regulations.gov.

Docket: For access to background documents or comments received, go to the FSIS Docket Room at the address listed above between 8:30 a.m. and 4:30 p.m., Monday through Friday.

FOR FURTHER INFORMATION CONTACT: Contact John O'Connell, Paperwork Reduction Act Coordinator, Food Safety and Inspection Service, USDA, 1400 Independence Avenue, SW., Room 6065 South Building, Washington, DC 20250, (202) 720-0345.

SUPPLEMENTARY INFORMATION:

Title: Listeria Monocytogenes Control for Ready-to-Eat Products.

OMB Number: 0583-0132.

Expiration Date of Approval: 11/30/2010.

Type of Request: Revision of a currently approved information collection.

Abstract: FSIS has been delegated the authority to exercise the functions of the Secretary as specified in the Federal Meat Inspection Act (FMIA) (21 U.S.C. 601, et seq.) and the Poultry Products Inspection Act (PPIA) (21 U.S.C. 451, et seq.). These statutes provide that FSIS is to protect the public by verifying that meat and poultry products are safe, wholesome, not adulterated, and properly labeled and packaged.

FSIS regulations (9 CFR 430.4) require official establishments that produce post-lethality exposed RTE meat and poultry products to take measures to prevent product adulteration by the pathogen L. monocytogenes.

Official establishments that produce these RTE meat and poultry products are required to at least annually furnish FSIS with information on the production volume of RTE products affected by the regulations and the control measures used by the establishments (9 CFR 430.4(d)).

RTE establishments may have to develop microbiological sampling and testing plans to support the efficacy of sanitation controls. RTE establishments develop microbiological sampling plans to ensure that their sanitation procedures are adequate (9 CFR 430.4(b)(2)(iii), 430.4(b)(3), 430.4(c)(1) and 430.4(c)(7)).

RTE establishments sample and test food-contact surfaces to verify that their L. monocytogenes controls are working (9 CFR 430.4(b)(2)(iii)(A) and (b)(3)(i)(A)).

RTE establishments that produce a deli product or a hot dog product must hold lots of product after obtaining a second positive test for L. monocytogenes or indicator organisms on a food contact surface in the post-lethality processing environment until the establishment corrects the problem indicated by the test result (9 CFR 430.4(b)(3)(ii)(B)).

FSIS is requesting a revision of an approved information collection addressing paperwork requirements regarding L. monocytogenes control. The Agency is revising the L. monocytogenes controls information collection based on its most recent plant data, which support a finding of fewer total burden hours than there are in the approved information collection.

FSIS has made the following estimates based upon an information collection assessment:

Estimate of Burden: FSIS estimates that it will take respondents an average of 11.2 hours per annum to collect and report this information.

Respondents: RTE establishments.

Estimated No. of Respondents: 2,129.

Estimated No. of Annual Responses per Respondent: 37,720.

Estimated Total Annual Burden on Respondents: 23,733 hours.

Copies of this information collection assessment can be obtained from John O'Connell, Paperwork Reduction Act Coordinator, Food Safety and Inspection Service, USDA, 1400 Independence Avenue, SW., Room 6065, South Building, Washington, DC 20250, (202)720-0345.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget, Washington, DC 20253.

Responses to this notice will be summarized and included in the request for OMB approval. All comments will also become a matter of public record.

USDA Statement of Non-Discrimination

The U.S. Department of Agriculture (USDA) prohibits discrimination in all of its programs and activities on the basis of race, color, national origin, gender, religion, age, disability, political beliefs, sexual orientation, and marital or family status. (Not all prohibited bases apply to all programs.) Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations/2010_Notices_Index/index.asp.

FSIS also will make copies of this Federal Register publication available through the FSIS Constituent Update, which is used to provide information regarding FSIS policies, procedures, regulations, Federal Register notices, FSIS public meetings, and other types of information that could affect or would be of interest to Agency constituents and stakeholders. The Update is communicated via Listserv, a free e-mail subscription service consisting of industry, trade, farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/ Options range from recalls to export information to regulations, directives and notices. Customers can add or delete subscriptions themselves, and have the option to password protect their accounts.

Done at Washington, DC, on: July 30, 2010.
Alfred V. Almanza,
Administrator.

[FR Doc. 2010-19341 Filed 8-5-10; 8:45 am]

BILLING CODE 3410-DM-P